DEPARTMENT OF ENERGY

Federal Energy Regulatory Commission

[Project No. 15327-000]

New England Hydropower Company, LLC; Notice of Preliminary Permit Application Accepted for Filing and Soliciting Comments, Motions To Intervene, and Competing Applications

a. On October 11, 2023, New England Hydropower Company, LLC, filed an application for a preliminary permit, pursuant to section 4(f) of the Federal Power Act, proposing to study the feasibility of the Middlebury Falls Hydroelectric Project No. 15327 (project), to be located on Otter Creek in Addison County, Vermont. The sole purpose of a preliminary permit, if issued, is to grant the permit holder priority to file a license application during the permit term. A preliminary permit does not authorize the permit holder to perform any land-disturbing activities or otherwise enter upon lands or waters owned by others without the owners' express permission.

b. Project Description: The proposed project would consist of the following: (1) a new 12-foot-wide, 60-foot-long, and 6-foot-deep intake channel equipped with a 12-foot-wide, 6-foot-high sluice gate and 20-foot-wide, 20-foot long trashrack; (2) a new 30-foot-wide, 40-foot-long, 50-foot-tall powerhouse that would include a new 500-kilowatt Kaplan turbine-generator unit; (3) a new powerhouse access way; (4) a new transformer and a new 150-foot-long underground transmission line that connect the project to the electric distribution grid; and (5) appurtenant facilities. The project would use the natural flow of Otter Creek and would not include a dam or impoundment. The estimated annual generation of the project would be 3,100 megawatt-hours.

c. Applicant Contact: Mr. Michael Kerr, New England Hydropower Company, LLC, 100 Cummings Center Drive, Suite 451C, Beverly, MA 01915; telephone at (978) 360-2547; email at michael@nehydropower.com.

d. FERC Contact: Arash Barsari, Project Coordinator, Great Lakes Branch, Division of Hydropower Licensing; telephone at (202) 502-6207; email at Arash.JalaliBarsari@ferc.gov.

e. The preliminary permit application has been accepted for filing.

f. Deadline for filing comments, motions to intervene, competing applications (without notices of intent), or notices of intent to file competing applications: 60 days from the issuance of this notice, May 25, 2024.

Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15327-000.

g. The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov.

h. More information about this project, including a copy of the application, can be viewed on the Commission's website (http://www.ferc.gov) using the “eLibrary” link. Enter the docket number (P-15327) in the docket number field to access the document. For assistance, please contact FERC Online Support.

Dated: March 26, 2024.
Debbie-Anne A. Reese,
Acting Secretary.

[FR Doc. 2024-06870 Filed 4-1-24; 8:45 am]

BILLING CODE 6717-01-P